DEPARTMENT OF HEALTH AND HUMAN SERVICES

Substance Abuse and Mental Health Services Administration

Notice of Meeting

Pursuant to Public Law 92-463, notice is hereby given that the Substance Abuse and Mental Health Services Administration (SAMHSA) National Advisory Council will meet on September 25, 2009 in Portland, Oregon.

The meeting is open to the public and will include a report from the SAMHSA Acting Administrator. The meeting will include discussions and presentations from state and local representatives and organizations focusing on substance use prevention and treatment and mental health of children, youth and their families.

Attendance by the public will be limited to space available. Public comments are welcome. The meeting can also be accessed via net-conference. To obtain the call-in numbers and access codes, to submit written or brief oral comments, or to request special accommodations for persons with disabilities, please communicate with the SAMHSA National Advisory Council Designated Federal Official, Ms. Toian Vaughn (see contact information below). You may also register on-line at: https://nac.samhsa.gov/Registration/meetingsRegistration.aspx.

Substantive program information and a roster of Council members may be obtained either by accessing the SAMHSA Committee Web site, https://nac.samhsa.gov/NACcouncil/index.aspx or by contacting Ms. Vaughn. The transcript for the meeting will be available on the SAMHSA Committee Web site within three weeks after the meeting.

Committee Name: SAMHSA National Advisory Council.

Date/Time/Type: Friday, September 25, 2009, from 9:30 a.m. to 5 p.m.: Open.

Place: Hilton Portland & Executive Towers, Salons II and III, Portland, Oregon.

Contact: Toian Vaughn, M.S.W., Designated Federal Official, SAMHSA National Advisory Council and SAMHSA Committee Management Officer, 1 Choke Cherry Road, Room 8-1089, Rockville, Maryland 20857, Telephone: (240) 276-2307; FAX: (240) 276-2220 and E-mail: toian.vaughn@samhsa.hhs.gov.

Toian Vaughn,
Committee Management Officer, Substance Abuse and Mental Health Services Administration.

[FR Doc. E9-21281 Filed 9-2-09; 8:45 am]

BILLING CODE 4162-20-P